DEPARTMENT OF THE INTERIOR

Bureau of Reclamation

Grassland Bypass Project, 2010-2019, Fresno and Merced Counties, CA

AGENCY: Bureau of Reclamation, Interior.

ACTION: Notice of Availability and Notice of Public Hearing for the joint Draft Environmental Impact Statement/Environmental Impact Report (Draft EIS/EIR).

SUMMARY: The Bureau of Reclamation (Reclamation) is the National Environmental Policy Act (NEPA) Federal lead agency and the San Luis and Delta-Mendota Water Authority (Authority) is the California Environmental Quality Act (CEQA) State lead agency. Together, these agencies have made available for public review and comment the Draft EIS/EIR.

The joint Draft EIS/EIR evaluates the effects of continuing the Grassland Bypass Project until December 31, 2019 (Project). The actions analyzed in the Draft EIS/EIR include continued use of the Grassland Bypass Channel and a 28-mile segment of the San Luis Drain (Drain); continued discharges to Mud Slough until December 31, 2019; management of accumulated sediments within the Drain segment; ongoing use and development of areas utilized for application of subsurface drainage on salt tolerant crops; and programmatic consideration of future phases of the treatment and disposal program.

DATES: A public hearing will be held on Tuesday, February 10, 2009 from 1:30 to 3:30 p.m. to provide the public an opportunity to comment on the Draft EIS/EIR. Written comments will also be accepted at the public hearing.

Submit written comments on the Draft EIS/EIR on or before March 16, 2009.

ADDRESSES: The public hearing location is the San Luis & Delta-Mendota Water Authority, Boardroom, 842 Sixth Street, Suite 7, Los Banos, CA.

Written comments on the Draft EIS/EIR should be addressed to Ms. Judi Tapia, Bureau of Reclamation, 1243 ‘N’ Street, Fresno, CA 93721-1831 or Mr. Joseph C. McGahan, Drainage Coordinator, San Luis & Delta-Mendota Water Authority, P.O. Box 2157, Los Banos, CA 93635, fax 209-826-9698, e-mail: jmcgahan@summerseng.com.

Copies of the draft document may be requested from Ms. Judi Tapia at the above address, by calling 559-487-5138, TDD 559-487-5933, or at jtapia@mp.usbr.gov. Copies may also be requested from Mr. Joseph C. McGahan, at the above address. The Draft EIS/EIR is also accessible from the following Web sites: http://www.usbr.gov/mp/nepa/index.cfm. See Supplementary Information section for locations where copies of the Draft EIS/EIR are available.

FOR FURTHER INFORMATION CONTACT: Ms. Judi Tapia, Bureau of Reclamation or Mr. Joseph C. McGahan, San Luis & Delta-Mendota Water Authority at the phone numbers or e-mail addresses above.

SUPPLEMENTARY INFORMATION: The Project and the Grassland Drainage Area are located in Merced and Fresno Counties in the Central Valley of California. Prior to 1996 when the interim project was implemented, subsurface agricultural drainage water was conveyed through channels used to deliver water to wetland habitat areas which limited Reclamation's ability to deliver fresh water to the wetlands. The Project now consolidates subsurface drainage flows on a regional basis (from the 97,400-acre Grassland Drainage Area), applies the drainage to salt tolerant crops to reduce the volume, utilizes a 4-mile channel to place it into the Drain at a point near Russell Avenue (Milepost 105.72, Check 19) and then utilizes a 28-mile segment of the Drain to convey the remaining drainage flows around wetland habitat areas and after which it is discharged to Mud Slough and subsequently reaches the San Joaquin River.

The original Grassland Bypass Project was implemented in November 1995 through an “Agreement for Use of the San Luis Drain” (Agreement No. 6-07-20-w1319) between Reclamation and the Authority. A Finding of No Significant Impact (FONSI No. 96-1-MP) was adopted by Reclamation for the original project, and environmental commitments set forth in the FONSI were made an integral component of the initial Use Agreement. The Use Agreement and its renewal in 1999 allowed for use of the Drain for a 5-year period that concluded September 30, 2001. A new Use Agreement (Agreement No. 01-WC-20-2075) was completed on September 28, 2001 for the period through December 31, 2009.

The original Grassland Bypass Project's use of the Drain was only authorized until December 31, 2009, and subsurface drainage flows discharged to Mud Slough (North) were to have met water quality objectives by October 1, 2010 as required by the Regional Water Quality Control Board, Central Valley Region's (CVRWQCB) 1998 Water Quality Control Plan (Basin Plan) for the Sacramento River and San Joaquin River Basins. However, delay in the acquisition of funding has delayed the development and availability of treatment and disposal technology to reduce selenium loads to meet that 2010 deadline. It is anticipated that the proposed extension would allow enough time to acquire funds and develop feasible treatment technology in order to meet the Basin Plan objectives and Waste Discharge Requirements.

In order to continue to discharge into Mud Slough (North) in the State's China Island Wildlife Area, the Authority would need to extend or amend a Memorandum of Understanding with the California Department of Fish and Game, Reclamation would need to extend the Use Agreement with the Authority for the continued use of the Drain after 2009, the CVRWQCB would need to revise their Basin Plan objectives for 2010 and amend the existing Waste Discharge Requirements in order to allow for anticipated drainage discharge into Mud Slough, and Reclamation and the Authority would need to remove existing and future sediments from the affected portion of the Drain.

The actions analyzed in the Draft EIS/EIR include continued use of the Grassland Bypass Channel and a 28-mile segment of the Drain; continued discharges to Mud Slough until December 31, 2019; management of accumulated sediments within that Drain segment; ongoing use and development of areas utilized for application of subsurface drainage on salt tolerant crops; and programmatic consideration of future phases of the treatment and disposal program. The Draft EIS/EIR considers the direct, indirect, and cumulative effects on the physical, natural, and human environment that may result from the Project actions above. The Draft EIS/EIR addresses potentially significant environmental issues and recommends adequate and feasible mitigation measures to reduce or eliminate significant environmental impacts, where possible. No project/no action alternative and one other action alternative are addressed.

Copies of the Draft EIS/EIR are available for public review at the following locations:

• Bureau of Reclamation, South-Central California Area Office, 1243 ‘N’ Street, Fresno, CA 93721-1831

• U.S. Bureau of Reclamation, Mid-Pacific Regional Office Library, 2800 Cottage Way, Sacramento, CA 95825

• San Luis & Delta-Mendota Water Authority, 842 Sixth Street, Los Banos, CA 93635

• San Francisco Public Library, 100 Larkin Street, San Francisco, CA 94012

• University of California-Davis, Shields Library, Documents Department, 100 NW Quad University of California, Davis, CA 95616-5292

• Merced County Public Library, 1312 South 7th Street, Los Banos, CA 93635-4757

• Fresno County Public Library Government Publications, 2420 Mariposa Street, Fresno, CA 93721-2204

• Stanislaus County Library, 1500 I Street, Modesto, CA 95354

• Resources Agency Library, 1416 Ninth Street, Suite 117, Sacramento, CA 95814-5510

• California State Library, 914 Capitol Mall, Suite E-29, Sacramento, CA 95814-4802

• University of California, Berkeley, Water Resources Archive, 410 O'Brien Hall, Berkeley, CA 94720-1718

If special accommodation is required, please contact Susan Mussett at 209-826-9696 or susan.mussett@sldmwa.org by January 30, 2009 to enable the Authority to secure the needed services.

Before including your name, address, phone number, e-mail address, or other personal identifying information in your comment, you should be aware that your entire comment—including your personal identifying information—may be made publicly available at any time. While you can ask us in your comment to withhold your personal identifying information from public review, we cannot guarantee that we will be able to do so.

Dated: December 11, 2008.
John F. Davis,
Deputy Regional Director, Mid-Pacific Region.

[FR Doc. E9-723 Filed 1-14-09; 8:45 am]

BILLING CODE 4310-MN-P